DEPARTMENT OF ENERGY

Federal Energy Regulatory Commission

[Docket No. EC02-48-000, et al.]

Otter Tail Power Company, et al.; Electric Rate and Corporate Regulation Filings

February 11, 2002.

Take notice that the following filings have been made with the Commission. Any comments should be submitted in accordance with Standard Paragraph E at the end of this notice.

1. [Docket No. EC02-48-000] Otter Tail Power Company

Take notice that on February 5, 2002, Otter Tail Power Company, a division of Otter Tail Corporation, (Otter Tail) pursuant to 18 CFR 33.2(i), tendered for filing a supplement to its Application to Transfer Contractual Rights Over Transmission Facilities to the Midwest Independent Transmission System Operator, Inc. filed on January 31, 2002. This supplement is Exhibit L and contains a copy of an order by the North Dakota Public Service Commission, issued on January 31, 2002, regarding Otter Tail's petition for approval of transfer of functional control of certain transmission facilities to the Midwest Independent Transmission System Operator, Inc.

Comment Date: February 26, 2002.

2. Northeast Utilities Service Company, The Connecticut Light and Power Company, Western Massachusetts Electric Company, Select Energy, Inc.

[Docket No. EC02-50-000]

Take notice that on February 5, 2002, Northeast Utilities Service Company (NUSCO), on behalf of The Connecticut Light and Power Company (CL&P), Western Massachusetts Electric Company (WMECO), and Select Energy, Inc. (Select), filed an application for an order authorizing the proposed transfer of the Bulk Power Service Agreement Between NUSCO, as agent for CL&P and WMECO, and the Town of Madison, Department of Electric Works, to Select.

Comment Date: February 26, 2002.

3. Southern California Edison Company

[Docket No. ER01-2609-003]

Take notice that on February 6, 2002, Southern California Edison Company (SCE) submitted for filing revised sheets for FERC Electric Tariff, First Revised Volume No. 6 Service Agreement No. 10, the Interconnection Facilities Agreement (IFA) between SCE and Wildflower Energy LP (Wildflower).

The purpose of this filing is to comply with the Commission's November 7, 2001 Order Conditionally Accepting Interconnection Agreement for Filing with Modifications in Southern California Edison Company, 97 FERC ¶ 61,148 (2001), which order required certain changes to be made to the IFA.

Copies of this filing were served upon the Public Utilities Commission of the State of California, the California Independent System Operator and Wildflower.

Comment Date: February 27, 2002.

4. Colton Power L.P.

[Docket No. ER01-2644-004]

Take notice that on February 5, 2002, Colton Power L.P. (Applicant) tendered for filing an amended market-based rate schedule under Section 205 of the Federal Power Act in order to comply with the Federal Energy Regulatory Commission's Letter Order accepting Applicant's market-based rate tariff on January 30, 2002 in the above referenced dockets.

Comment Date: February 26, 2002.

5. Midwest Independent Transmission System Operator, Inc.

[Docket No. ER02-290-001]

Take notice that on February 6, 2002, Midwest Independent Transmission System Operator, Inc. (Midwest ISO), tendered for filing with the Federal Energy Regulatory Commission (Commission), an Attachment U to its Open Access Transmission Tariff (OATT), FERC Electric Tariff, Original Volume No. 1, which contains the Midwest ISO's Process for the Use of Network Resources Outside of the Midwest ISO and Resolving Competing Requests for Transmission Service Among Network Customers and between Point-to-Point and Network Customers.

The Midwest ISO has electronically served copies of its filing, with attachments, upon all Midwest ISO Members, Member representatives of Transmission Owners and Non-Transmission Owners, the Midwest ISO Advisory Committee participants, Policy Subcommittee participants, as well as all state commissions within the region. In addition, the filing has been electronically posted on the Midwest ISO's website at www.midwestios.org under the hearing “Filings to FERC” for other interested parties in this matter.

Comment Date: February 27, 2002.

6. CinCap Madison, LLC

[Docket Nos. ER02-322-002 and ER00-1784-004]

Take notice that on February 4, 2002, CinCap Madison, LLC tendered for filing with the Federal Energy Regulatory Commission (Commission) an amendment to its notice of change in status and an amendment to the market-based rate tariff and code of conduct.

Comment Date: February 25, 2002.

7. Shady Hills Power Company, LLC

[Docket No. ER02-537-001]

Take notice that on February 6, 2002, Shady Hills Power Company, LLC (Shady Hills) tendered for filing, pursuant to a letter order issued by the Federal Energy Regulatory Commission (Commission) on January 30, 2002, a compliance filing enclosing revised tariff sheets reflecting the correct effective date and including the service agreement as Sheet No. 4 to Shady Hills' market-based rate tariff.

Comment Date: February 27, 2002.

8. Otter Tail Power Company

[Docket No. ER02-912-001]

Take notice that on February 5, 2002, Otter Tail Power Company submitted corrections to its proposal to implement a Control Area Services and Operations Tariff and terminate its Open Access Transmission Tariff, which was filed on January 31, 2002. The corrections concern the Control Area Services and Operations Tariff.

Comment Date: February 26, 2002.

9. Otter Tail Power Company

[Docket No. ER02-916-001]

Take notice that on February 5, 2002, Otter Tail Power Company filed a revised version of the Ancillary Services Agreement between Otter Tail Power Company and the Midwest Independent Transmission System Operator, Inc. to replace the initial version filed on January 31, 2002. The revised version contains the signatures of both parties on a single page and also includes the designations required by Order No. 614.

Copies of this filing were sent to those persons on the official service list compiled by the Secretary in this proceeding and upon each person served the original filing made on January 31, 2002.

Comment Date: February 26, 2002.

10. Entergy Services, Inc.

[Docket No. ER02-970-000]

Take notice that on February 6, 2002, Entergy Services, Inc., on behalf of Entergy Arkansas, Inc., Entergy Gulf States, Inc., Entergy Louisiana, Inc., Entergy Mississippi, Inc., and Entergy New Orleans, Inc., (collectively, the Entergy Operating Companies) tendered for filing a Non-Firm Point-To-Point Transmission Service Agreement and a Short-Term Firm Point-To-Point Transmission Service Agreement both between Entergy Services, Inc., as agent for the Entergy Operating Companies, and Entergy Power Generation Corporation.

Comment Date: February 27, 2002.

11. DTE East China, LLC

[Docket No. ER02-971-000]

Take notice that on February 6, 2002, DTE East China, LLC (DTE East China) submitted for filing with the Federal Energy Regulatory Commission (Commission), pursuant to Section 205 of the Federal Power Act, and Part 35 of the Commission's regulations, a Petition for authorization to make sales of electric capacity and energy, and for certain waivers and blanket authorizations of the Commission's regulations typically granted to entities with market-based rate authorizations.

Comment Date: February 27, 2002.

12. Illinois Power Company

[Docket No. ER02-972-000]

Take notice that on February 6, 2002, Illinois Power Company (Illinois Power), 500 South 27th Street, Decatur, Illinois 65251-2200, filed with the Federal Energy Regulatory Commission (Commission), a Network Integration Transmission Service Agreement entered into by Illinois Power, as transmission provider, with Illinois Power, as retail merchant. The Agreement was entered into pursuant to Illinois Power's Open Access Transmission Tariff.

Illinois Power requests an effective date of February 1, 2002.

Illinois Power states that a copy of this filing has been sent to the customer.

Comment Date: February 27, 2002.

13. International Transmission Company

[Docket No. ER02-974-000]

Take notice that on February 6, 2002, International Transmission Company (International Transmission) tendered for filing pursuant to Section 205 of the Federal Power Act, 16 U.S.C. § 824d (1994), transmission service agreements for the provision of network integration transmission service and short-term firm point-to-point transmission service under the joint open access transmission tariff between International Transmission and Michigan Electric Transmission Company to the following customers: CMS MS&T Michigan L.L.C., Engage Energy America LLC, Quest Energy L.L.C., and Nordic Marketing LLC.

Comment Date: February 27, 2002.

14. Energy.com Corporation

[Docket No. ER02-976-000]

Take notice that on January 31, 2002, Energy.com Corporation and its parent company, eVulkan Inc. d/b/a beMany, filed a cancellation of rate schedule.

Energy.com requests an effective date of January 31, 2002.

Comment Date: February 21, 2002.

15. Entergy Services, Inc.

[Docket No. ER02-980-000]

Take notice that on February 6, 2002, Entergy Services, Inc., on behalf of Entergy Arkansas, Inc., Entergy Gulf States, Inc., Entergy Louisiana, Inc., Entergy Mississippi, Inc., and Entergy New Orleans, Inc., (collectively, the Entergy Operating Companies) tendered for filing a Long-Term Firm Point-To-Point Transmission Service Agreement between Entergy Services, Inc., as agent for the Entergy Operating Companies, and Calpine Energy Services, L.P.

Comment Date: February 27, 2002.

16. California Independent System Operator Corporation

[Docket No. ER02-981-000]

Take notice that on February 6, 2002, the California Independent System Operator Corporation (ISO), tendered for filing with the Federal Energy Regulatory Commission (Commission) a Scheduling Coordinator Agreement between the ISO and Allegheny Energy Supply Company, LLC for acceptance by the Commission.

The ISO is requesting the Coordinator Agreement to be made effective as of January 31, 2002.

The ISO states that this filing has been served on Allegheny Energy Supply Company, LLC and the California Public Utilities Commission.

Comment Date: February 27, 2002.

17. Koch Energy Trading, Inc.

[Docket No. ER02-982-000]

Take notice that on February 6, 2002, Koch Energy Trading, Inc. tendered for filing with the Federal Energy Regulatory Commission (Commission), a Notice of Termination of a Service Agreement with Koch Energy Trading, Inc. under Rate Schedule FERC No. 210 previously filed under the Commission's Docket No. ER00-993-000 with an effective termination date of February 1, 2002.

Comment Date: February 27, 2002.

18. Illinois Power Company

[Docket No. ER02-983-000]

Take notice that on February 6, 2002, Illinois Power Company (Illinois Power), 500 South 27th Street, Decatur, Illinois 65251-2200, filed with the Federal Energy Regulatory Commission (Commission) a Notice of Cancellation, effective at 11:59 p.m. on January 31, 2002, of Rate PS Power Sales Tariff, FERC Electric Tariff, Original Volume No. 7.

Illinois Power states that a copy of the Notice of Cancellation has been mailed to each person on the official service list in this proceeding and each party having a service agreement under Rate PS Power Sales Tariff.

Comment Date: February 27, 2002.

Standard Paragraph

E. Any person desiring to be heard or to protest such filing should file a motion to intervene or protest with the Federal Energy Regulatory Commission, 888 First Street, NE., Washington, DC 20426, in accordance with rules 211 and 214 of the Commission's rules of practice and procedure (18 CFR 385.211 and 385.214). All such motions or protests should be filed on or before the comment date. Protests will be considered by the Commission in determining the appropriate action to be taken, but will not serve to make protestants parties to the proceeding. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Magalie R. Salas,
Secretary.

[FR Doc. 02-3862 Filed 2-15-02; 8:45 am]

BILLING CODE 6717-01-P